DEPARTMENT OF JUSTICE

Office of Community Oriented Policing Services; FY 2002 Community Policing Discretionary Grants

AGENCY: Office of Community Oriented Policing Services, Department of Justice.

ACTION: Notice of Availability.

SUMMARY: The U.S. Department of Justice Office of Community Oriented Policing Services (COPS) announces the availability of the COPS in Schools grant program, which will assist law enforcement agencies in hiring new, additional School Resource Officers (SROs) to engage in community policing in and around primary and secondary schools. This program provides an incentive for law enforcement agencies to build collaborative partnerships with the school community and to use community policing efforts to combat school violence. The School Resource Officer must devote at least 75% of his/her time to work in and around primary and secondary schools, in addition to the time that a law enforcement agency would have devoted in the absence of the COPS in Schools grant.

The COPS in Schools program provides a maximum federal contribution of up to $125,000 per officer position over the three-year grant period, with any remaining costs to be paid with local funds. Officers paid with COPS in Schools funding must be hired on or after the grant award start date. In addition, all jurisdictions that apply must demonstrate that they have primary law enforcement authority over the school(s) identified in their application and demonstrate their inability to implement this project without federal assistance. Funding will begin when the new officers are hired on or after the award date and will be paid over the course of the grant period.

DATES: There will be two application deadlines for the COPS in Schools (CIS) program in 2002: May 17, 2002 and June 14, 2002. Applications postmarked on or before May 17, 2002 will receive priority consideration for Fiscal Year 2002 funding. Applications postmarked after May 17, 2002, but on or before June 14, 2002 will receive secondary consideration for COPS in Schools funding in Fiscal Year 2002. All applications must be postmarked on or before the second and final June 14, 2002 deadline to be considered for funding. All grant awards are subject to the availability of funding. Since funding is limited under the COPS in Schools Program, the COPS Office encourages interested agencies to apply early. Previous editions of the COPS in Schools Application Kit will not be accepted.

ADDRESSES: To obtain a copy of the CIS 2002 Application Kit, please call the U.S. Department of Justice Response Center at 1.800.421.6770 or visit the COPS Web site at http://www.cops.usdoj.gov.

FOR FURTHER INFORMATION CONTACT: Please contact the U.S. Department of Justice Response Center at 1.800.421.6770 or your COPS Grant Program Specialist. Additional information on the COPS in Schools program and the COPS Office in general is also available on the COPS Web site at: http://www.cops.usdoj.gov.

Overview

The Violent Crime Control and Law Enforcement Act of 1994 (Public Law 103-322) authorizes the Department of Justice to make grants to increase deployment of law enforcement officers devoted to community policing on the streets and rural routes in this nation. Many communities are discovering that trained, sworn law enforcement officers assigned to schools play an integral part in the development and/or enhancement of a comprehensive school safety plan. The presence of these officers provides schools with a direct link to local law enforcement agencies. School Resource Officers (SROs) may serve in a variety of roles including, but not limited to, that of a law enforcement officer/safety specialist, law-related educator, and problem solver/community liaison. These officers may teach programs such as crime prevention, substance abuse prevention, and gang resistance as well as monitor and assist troubled students through mentoring programs. The School Resource Officer(s) may also identify physical changes in the environment that may reduce crime in and around the schools, as well as assist in developing school policies which address criminal activity and school safety.

COPS in Schools funding must be used to hire new, additional School Resource Officers, over and above the number of sworn officers that a law enforcement agency would fund with state or local funds in the absence of the grant (including other School Resources Officers). A law enforcement agency may not reduce its state, locally-funded or Bureau of Indian Affairs-funded level of sworn officers (including other School Resource Officers or other sworn officers assigned to the schools) as a result of applying for or receiving COPS in Schools grant funding. For example, agencies currently employing one locally-funded School Resource Officer (or any other officer assigned to the school) that are awarded an additional School Resource Officer under the COPS in Schools program should thereafter employ two School Resource Officers (one locally-funded and one COPS-funded). COPS in Schools funding may be used to rehire sworn officers previously employed by your agency who have been laid off for financial reasons unrelated to the availability of the COPS in Schools grant if your agency obtains prior written approval from the COPS Office.

At the time of application, all applicants must agree to plan for the retention of each COPS-funded COPS in Schools position awarded at the conclusion of federal funding for at least one full local budget cycle. The application must also include a Memorandum of Understanding (MOU), signed by the law enforcement executive and the appropriate school official, to document the roles and responsibilities of the collaborative effort between the law enforcement agency and the educational school partner(s). The application must also include a Narrative Addendum to document that the School Resource Officer(s) will be assigned to work in and around primary or secondary schools and provide supporting documentation in the following areas: problem identification and justification, community policing strategies to be used by the officers, quality and level of commitment to the effort, and the link to community policing.

All agencies receiving awards through the COPS in Schools program are required to send the officer(s) deployed into the School Resource Officer position(s) as a result of this grant, and one individual designated as the School Representative under the grant program, to attend one COPS in Schools Training. The COPS Office will reimburse grantees for training, per diem, travel, and lodging costs for attendance of required participants up to a maximum of $1,100 per person attending. Should your agency receive a COPS in Schools grant, your agency will receive additional training information following notification of the grant award.

The Catalog of Federal Domestic Assistance (CFDA) reference for this program is 16.710.
Carl R. Peed,
Director, Office of Community Oriented Policing Services.

[FR Doc. 02-9692 Filed 4-19-02; 8:45 am]

BILLING CODE 4410-AT-M